DEPARTMENT OF COMMERCE

National Institute of Standards and Technology

Notice of Meeting Regarding IPv6 Test Materials for the United States Government

AGENCY: National Institute of Standards and Technology, Department of Commerce.

ACTION: Notice of meeting.

SUMMARY: The National Institute of Standards and Technology (NIST) Information Technology Laboratory (ITL) invites interested parties to attend a meeting pertaining to Internet Protocol version 6 (IPv6) Test Materials for the United States Government.

NIST will host a meeting open to the public on May 4th, 2007, in Lecture Room B of building 101 at 9 am to discuss establishing a framework for a sound and viable testing methodology for Internet Protocol version 6. The discussion will include: USG requirements for testing, attributes of potential administrative frameworks for test programs, potential sources of test suites to serve as a technical basis for a testing program, and potential test providers who could carry out and/or provide services in support of such programs.

DATES: The public meeting will be held on May 4th, 2007 at 9 a.m. Parties wishing to submit information should send their materials to NIST no later than April 30, 2007.

ADDRESSES: The public meeting will be held at: NIST Administration Building, 100 Bureau Drive, Lecture Room B, Gaithersburg, MD 20899. Submissions of information should be sent to: sp-500-267-comments@antd.nist.gov.

FOR FURTHER INFORMATION CONTACT: Stephen Nightingale, night@nist.gov.

SUPPLEMENTARY INFORMATION: Following publication of NIST Special Publication 500-267 A Profile for IPv6 in the Federal Government—Version 1.0, NIST has begun to consider the feasibility and form of a possible testing program to demonstrate claims of compliance. Such a testing program might have two components:

(1) Qualified test laboratories testing to public domain test suites and relevant test methods, and

(2) An Approved Products List.

The approved products list could identify Hosts, Routers and Network Protection Devices (including Firewalls) that have passed interoperability testing and conformance testing.

The objective of the meeting is to determine the following information:

(1) Whether there are test Suites for interoperability and conformance that can be placed in the public domain, free from intellectual property rights or other encumbrance and validated against the specifications, for use as the standard reference test suite for the U.S. Government IPv6 Profile.

(2) What test methods, being devices or procedural systems, can be validated in conjunction with the standard reference test suites.

(3) Whether there are testing facilities compliant with, or intending to be compliant with, ISO 17025 General Requirements for the Competence of Calibration and Testing Laboratories, which may conduct interoperability and conformance testing of all or any integral part of the IPv6 Profile, in a forum open to all qualified applicants.

Other interested parties are also invited to submit written statements. All parties desiring to attend the meeting must register in advance, to help co-ordinate access to the NIST campus.

Draft NIST SP 500-267, the IPv6 profile, remains available electronically at http://www.antd.nist.gov/usgv6-v1-draft.pdf.

Dated: April 12, 2007.
William Jeffrey,
Director.

[FR Doc. E7-7287 Filed 4-16-07; 8:45 am]

BILLING CODE 3510-13-P